COMMISSION ON CIVIL RIGHTS

Notice of Public Meeting of the Illinois Advisory Committee, Amendment

AGENCY: Commission on Civil Rights.

ACTION: Notice; amendment to meeting date.

SUMMARY: The Commission on Civil Rights is holding a meeting of the Illinois Advisory Committee on Wednesday, August 12, 2020 at 1:00 p.m. CDT. This notice serves as an amendment to the initially supplied date of Tuesday, August 4, 2020 at 1:00 p.m. CDT.

FOR FURTHER INFORMATION CONTACT: Carolyn Allen, (312) 353-8311, callen@usccr.gov.

Amendment: Date of Tuesday, August 4, 2020 at 1:00 p.m. to be replaced with new meeting date of Wednesday, August 12, 2020 at 1:00 p.m. CDT.

Dated: August 6, 2020.
David Mussatt,
Supervisory Chief, Regional Programs Unit.

[FR Doc. 2020-17588 Filed 8-11-20; 8:45 am]

BILLING CODE P